DEPARTMENT OF TRANSPORTATION

Coast Guard

33 CFR Part 117

[CGD 08-01-015]

Drawbridge Operating Regulation; Mississippi River, Iowa and Illinois

AGENCY: Coast Guard, DOT.

ACTION: Notice of temporary deviation from drawbridge regulations.

SUMMARY: The Commander, Eighth Coast Guard District has authorized a temporary deviation from the regulation governing the Rock Island Railroad & Highway Drawbridge, across the Upper Mississippi River at Mile 482.9, at Rock Island, Illinois. This deviation allows for the drawbridge to remain closed-to-navigation for 12 hours from 6 a.m. to 6 p.m. on July 17, 2001. This action is required to allow the bridge owner time for dark removal and perform structural repairs.

DATES: This temporary deviation is effective from 6 a.m. to 6 p.m., July 17, 2001.

FOR FURTHER INFORMATION CONTACT: Roger K. Wiebusch, Bridge Administrator, Commander (obr), Eighth Coast Guard District, 1222 Spruce Street, St. Louis, MO 63103-2832, (314) 539-3900, extension 378.

SUPPLEMENTARY INFORMATION: The Rock Island Railroad & Highway Drawbridge provides a vertical clearance of 23.8 feet above normal pool in the closed-to-navigation position. Navigation on the waterway consists primarily of commercial tows and recreational watercraft. This deviation has been coordinated with waterway users who do not object.

This deviation allows the bridge to remain closed-to-navigation from 6 a.m. to 6 p.m., July 17, 2001. The drawbridge normally opens on signal and will open on signal at all other times.

Dated: June 21, 2001.
Roy J. Casto,
RADM, USCG Commander, 8th CG District.

[FR Doc. 01-17380 Filed 7-10-01; 8:45 am]

BILLING CODE 4910-15-M